DEPARTMENT OF HEALTH AND HUMAN SERVICES

National Institutes of Health

Center for Scientific Review; Amended Notice of Meeting

Notice is hereby given of a change in the meeting of the Center for Scientific Review Advisory Council, September 19, 2022, 10:00 a.m. to 04:00 p.m., National Institutes of Health, Rockledge II, 6701 Rockledge Drive, Rooms 260 C, D, E and F, Bethesda, MD 20892, which was published in the Federal Register on August 24, 2022, FR Doc 2022-18262, 87 FR 52000.

This notice is being amended to remove the visitor testing requirement for entering NIH facilities due to CDC updates published August 11, 2022, regarding screening testing. The meeting is open to the public.

Information is also available on the Institute's/Center's home page: https://public.csr.nih.gov/AboutCSR/Organization/CSRAdvisoryCouncil, where an agenda and any additional information for the meeting will be posted when available.

The meeting will be videocast and can be accessed from the NIH Videocasting website (https://videocast.nih.gov/watch=45767).

Dated: August 25, 2022.
Tyeshia M. Roberson-Curtis,
Program Analyst, Office of Federal Advisory Committee Policy.

[FR Doc. 2022-18785 Filed 8-30-22; 8:45 am]

BILLING CODE 4140-01-P